ENVIRONMENTAL PROTECTION AGENCY

[ER-FRL-6697-3]

Environmental Impacts Statements; Notice of Availability

Responsible Agency: Office of Federal Activities, General Information (202) 564-7167 or http://www.epa.gov/compliance/nepa/.

Weekly receipt of Environmental Impact Statements

Filed 03/17/2008 Through 03/21/2008

Pursuant to 40 CFR 1506.9.

EIS No. 20080101, Final EIS, FHW, ID, ID-75 Timmerman to Ketchum—US-20 to Saddle Road, Preferred Alternative is 2, Increase Roadway and Transportation Safety, Cities of Bellevue, Hailey, Ketchum and the City of Sun Valley, Blaine County, ID, Wait Period Ends: 04/28/2008, Contact: Peter J. Hartman 208-334-9180.

EIS No. 20080102, Final EIS, BLM, 00, Yuma Field Office (YFO) Resource Management Plan, Provide Direction Managing Public Lands, Implementation, Yuma, La Paz and Maricopa Counties, AZ and Imperial and Riverside Counties, CA, Wait Period Ends: 04/28/2008, Contact: Brenda Hudgens-Williams 202-452-5112.

EIS No. 20080103, Draft EIS, USN, FL, Mayport Naval Station Project, Proposed Homeporting of Additional Surface Ships, Several Permits, Mayport, FL, Comment Period Ends: 05/12/2008, Contact: Erica Evans 703-412-7542.

EIS No. 20080104, Final EIS, JUS, NV, Las Vegas Detention Facility, Proposed Contractor-Owned/Contractor-Operated Detention Facility, Implementation, Nevada Area, Wait Period Ends: 04/28/2008, Contact: Scott P. Stermer 202-353-4601.

EIS No. 20080105, Draft EIS, AFS, CA, Orleans Community Fuels Reduction and Forest Health Project, To Manage Forest Stands to Reduce Hazardous Fuel Conditions, Orleans Ranger District, Six Rivers National Forest, Humboldt County, CA, Comment Period Ends: 05/13/2008, Contact: William Rice 530-627-3291.

EIS No. 20080106, Draft EIS, AFS, CO, Long Draw Reservoir Project, Re-Issue a Special-Use-Authorization to Water Supply and Storage to Allow the Continued Use of Long Draw Reservoir and Dam, Arapaho and Roosevelt National Forests and Pawnee National Grassland, Grand and Larimer Counties, CO, Comment Period Ends: 05/12/2008, Contact: Ken Tu 970-295-6623.

EIS No. 20080107, Final Supplement, NOA, 00, Atlantic Mackerel, Squid and Butterfish, Fishery Management Plan, Amendment #9, Implementation, Essential Fish Habitat (EFH), Exclusive Economic Zone (EEZ), Wait Period Ends: 04/28/2008, Contact: Patricia A. Kurkul 978-281-9250.

EIS No. 20080108, Revised Final EIS, WAP, CA, Sacramento Area Voltage Support Project, Revision to FSEIS Filed February 2008, Selected Preferred Alternative B, Proposal to Build a Double-Circuit 230-kV Transmission Line, Placer, Sacramento and Sutter Counties, CA, Wait Period Ends: 04/28/2008, Contact: Catherine Cunningham 720-962-7260.

EIS No. 20080109, Final EIS, AFS, OR, Mt. Hood National Forest and Columbia River Gorge National Scenic Area, Site-Specific Invasive Plant Treatments, Forest Plan Amendments #16, Mt. Hood National Forest and Columbia River Gorge National Scenic Area, Clackamas, Hood River, Multnomah and Wasco Counties, OR, Wait Period Ends: 04/28/2008, Contact: Jennie O'Connor 503-668-1645.

EIS No. 20080110, Final EIS, BIA, CA, Scotts Valley Band of Pomo Indians, Proposed 29.87 Acre Fee-to-Trust Transfer and Casino Project, Contra Costa County, Comment Period Ends: 04/28/2008, Contact: John Rydzik 916-978-6042.

EIS No. 20080111, Draft EIS, COE, 00, PROGRAMMATIC—Hydropower Rehabilitations, Dissolved Oxygen and Minimum Flow Regimes at Wolf Creek Dam, Kentucky and Center Hill and Dale Hollow Dams, Tennessee, Implementation, Comment Period Ends: 05/12/2008, Contact: Chip Hall 615-736-7666.

EIS No. 20080112, Draft Supplement, NOA, CA, Channel Islands National Marine Sanctuary Management Plan, Supplement/Replace Information, Implementation, Santa Barbara and Ventura Counties, CA , Comment Period Ends: 05/30/2008, Contact: Chris Mobley 805-966-7107 Ext 465.

EIS No. 20080113, Draft EIS, FRC, FL, Floridian Natural Gas Storage Project, Construction and Operation, Liquefied Natural Gas (LNG) Storage and Natural Gas Transmission Facilities, Martin County, FL, Comment Period Ends: 05/12/2008, Contact: Andy Black 1-866-208-3372.

EIS No. 20080114, Draft EIS, BPA, WA, Lyle Falls Fish Passage Project, To Improve Fish Passage to Habitat in the Upper Part of the Watershed, Located on the Lower Klickitat River, Klickitat County, WA, Comment Period Ends: 05/12/2008, Contact: Carl Keller 503-230-7692.

EIS No. 20080115, Draft EIS, UAF, FL, Eglin Air Force Base Program, Base Realignment and Closure (BRAC) 2005 Decisions and Related Action, Implementation, FL, Comment Period Ends: 05/12/2008, Contact: Mike Spaits 850-882-2878.

EIS No. 20080116, Final EIS, FRC, 00, Gulf Crossing Project, Construction and Operation of Natural Gas Pipeline to Facilitate the Transport of up to 1.73 Billion Cubic Feet Per Day of Natural Gas, Locate in various Counties and Parishes in OK, TX, LA and MS, Wait Period Ends: 04/28/2008, Contact: Andy Black 1-866-208-3372.

Amended Notices

EIS No. 20070524, Draft EIS, BLM, 00, PROGRAMMATIC EIS—Oil Shale and Tar Sands Resource Management (RMP) Amendments to Address Land Use Allocations in Colorado, Utah and Wyoming, Comment Period Ends: 04/28/2008, Contact: Michael Nedd 202-208-4201. Revision of FR Notice Published 12/21/2007: Extending Comment Period from 3/20/2008 to 04/28/2008.

Dated: March 25, 2008.
Robert W. Hargrove,
Director, NEPA Compliance Division, Office of Federal Activities.

[FR Doc. E8-6424 Filed 3-27-08; 8:45 am]

BILLING CODE 6560-50-P